DEPARTMENT OF EDUCATION

[Docket No.: ED-2024-SCC-0076]

Agency Information Collection Activities; Submission to the Office of Management and Budget for Review and Approval; Comment Request; William D. Ford Federal Direct Loan Program (Direct Loan Program) Promissory Notes and Related Forms

AGENCY: Federal Student Aid (FSA), Department of Education (ED).

ACTION: Notice.

SUMMARY: In accordance with the Paperwork Reduction Act (PRA) of 1995, the Department is proposing a revision of a currently approved information collection request (ICR).

DATES: Interested persons are invited to submit comments on or before September 19, 2024.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Beth Grebeldinger, 202-570-8414.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: William D. Ford Federal Direct Loan Program (Direct Loan Program) Promissory Notes and related forms.

OMB Control Number: 1845-0007.

Type of Review: A revision of a currently approved ICR.

Respondents/Affected Public: Individuals and Households; Private Sector.

Total Estimated Number of Annual Responses: 9,862,685.

Total Estimated Number of Annual Burden Hours: 4,021,663.

Abstract: The Direct Loan Program promissory notes included in this collection contain information regarding the terms and conditions of the Saving on a Valuable Education (SAVE) repayment plan. However, implementation of the SAVE repayment plan is currently enjoined. The final versions of the promissory notes will reflect the law when it is finalized.

The Direct Subsidized Loan and Direct Unsubsidized Loan Master Promissory Note (Subsidized/Unsubsidized MPN) serves as the means by which an individual agrees to repay a Direct Subsidized Loan and/or Direct Unsubsidized Loan.

The Direct PLUS Loan Master Promissory Note (PLUS Loan MPN) serves as the means by which an individual applies for and agrees to repay a Direct PLUS Loan. If a Direct PLUS Loan applicant is determined to have an adverse credit history, the applicant may qualify for a Direct PLUS Loan by obtaining an endorser who does not have an adverse credit history. The Endorser Addendum serves as the means by which an endorser agrees to repay the Direct PLUS Loan if the borrower does not repay it.

An MPN is a promissory note under which a borrower may receive loans for a single or multiple academic years. The MPN explains the terms and conditions of the loans that are made under the MPN.

The Direct Consolidation Loan Application and Promissory Note (Consolidation Note) serves as the means by which a borrower applies for a Direct Consolidation Loan and promises to repay the loan. It also explains the terms and conditions of the Direct Consolidation Loan. The Consolidation Note Instructions explain to the borrower how to complete the Consolidation Note. The Consolidation Additional Loan Listing Sheet provides additional space for a borrower to list loans that he or she wishes to consolidate. The Consolidation Request to Add Loans serves as the means by which a borrower may add other loans to an existing Direct Consolidation Loan within a specified time period. The Consolidation Loan Verification Certificate serves as the means by which the U.S. Department of Education obtains the information needed to pay off the holders of the loans that the borrower wants to consolidate.

The proposed changes to the forms currently approved under OMB No. 1845-0007 include the following:

—Revised language in the promissory notes where necessary to reflect changes to the terms and conditions of Direct Loans made by final regulations published on November 1, 2022 (87 FR 65904) and July 10, 2023 (88 FR 43820).

—To eliminate duplication of content, we have consolidated the information presented in the current Terms and Conditions and Borrowers Rights and Responsibilities Statement (BRR) into a single Terms and Conditions/BRR section.

—To make it easier for borrowers to complete the promissory notes, we have incorporated the instructions within the body of the promissory notes at the beginning of each section to which the instructions apply.

—To reduce the number of forms in this collection, we have eliminated the Additional Loan Listing Sheet and added extra spaces to list loans in the Consolidation Application/Promissory Note itself.

—To accommodate changes made to the Departments systems used in processing promissory notes, the current data field in all of the promissory notes that asks for the borrowers middle initial has been changed to request the borrowers full middle name, and a new data field asking for any suffix to the borrowers name (e.g., Jr. or Sr.) has been added.

—We have revised the Privacy Act Statement in each of the promissory notes based on the most recent updates to the applicable Systems of Records Notices.

Dated: August 15, 2024.
Kun Mullan,
PRA Coordinator, Strategic Collections and Clearance, Governance and Strategy Division, Office of Chief Data Officer, Office of Planning, Evaluation and Policy Development.

[FR Doc. 2024-18592 Filed 8-19-24; 8:45 am]

BILLING CODE 4000-01-P